DEPARTMENT OF AGRICULTURE

7 CFR Part 2

RIN 0503-AA48

Revision of Delegations of Authority

AGENCY: Office of the Secretary, USDA.

ACTION: Final rule.

SUMMARY: This document revises the delegations of authority from the Secretary of Agriculture to the Under Secretary for Research, Education, and Economics (REE) and the Under Secretary for Rural Development (RD), and from the Under Secretary for REE to the Director of the National Institute of Food and Agriculture (NIFA), to reflect the division of responsibilities for carrying out the biomass research and development authorities in section 9008 of the Farm Security and Rural Investment Act of 2002 (FSRIA) (7 U.S.C. 8108).

DATES: Effective Date: August 24, 2011.

FOR FURTHER INFORMATION CONTACT: Chavonda Jacobs-Young; Acting Director, NIFA, REE, USDA at (202) 720-4423 or William F. Hagy, Director of Alternative Energy Policy, RD, USDA, at (202) 720-4581.

SUPPLEMENTARY INFORMATION: This final rule revises the delegations of authority within the Department of Agriculture to carry out the various authorities of the Secretary of Agriculture in section 9008 of FSRIA (formerly the Biomass Research and Development Act of 2000) (7 U.S.C. 8108), as added by section 9001(a) of the Food, Conservation, and Energy Act of 2008, Public Law 110-246.

Currently, the authority to carry out section 9008 of FSRIA is delegated to the Under Secretary for REE, as reflected in 7 CFR 2.21(a)(1)(cci). The authority to administer the grants program known as the Biomass Research and Development Initiative (7 U.S.C. 8108(e)) is further delegated to the Director of NIFA within the REE mission area, as reflected in 7 CFR 2.66(a)(156).

This final rule divides responsibilities for carrying out section 9008 of FSRIA between the REE and RD mission areas, as follows. The Under Secretary for REE will continue to exercise delegated authority to administer the Biomass Research and Development Initiative program, as well as consult and coordinate, as appropriate, with the Under Secretary for RD and other mission areas of the Department as necessary in carrying out this authority. These authorities are further delegated to the Director of NIFA. The delegations in 7 CFR 2.21(a)(1)(cci) and 2.66(a)(156) are revised accordingly.

The Under Secretary for RD is delegated the responsibility to carry out all other authorities of the Secretary in 7 U.S.C. 8108, including administration of the Biomass Research and Development Board and Biomass Research and Development Technical Advisory Committee, and submission of reports to Congress. The Under Secretary for RD will consult and coordinate, as appropriate, with the Under Secretary for REE and other mission areas of the Department in carrying out these authorities. A new delegation is added to 7 CFR 2.17(a)(30) to reflect the delegation of these authorities.

Finally, the Under Secretary for RD will serve as the designated “point of contact” referenced in 7 U.S.C. 8108 for the Department, except that the point of contact for purposes of administering the Biomass Research and Development Initiative program will continue to be the Under Secretary for REE.

Classification

This rule relates to internal agency management. Accordingly, pursuant to 5 U.S.C. 553, notice of proposed rulemaking and opportunity for comment are not required, and this rule may be made effective less than 30 days after publication in the Federal Register. This rule also is exempt from the provisions of Executive Orders 12866 and 12988. This action is not a rule as defined by the Regulatory Flexibility Act, Public Law 96-354, and the Small Business Regulatory Fairness Enforcement Act, 5 U.S.C. 801 et seq., and thus is exempt from the provisions of those Acts. This rule contains no information collection or recordkeeping requirements under the Paperwork Reduction Act of 1995 (44 U.S.C. 3501 et seq.).

List of Subjects in 7 CFR Part 2

Authority delegations (Government agencies).

Accordingly, Title 7 of the Code of Federal Regulations is amended as set forth below:

PART 2—DELEGATIONS OF AUTHORITY BY THE SECRETARY OF AGRICULTURE AND GENERAL OFFICERS OF THE DEPARTMENT

1. The authority for part 2 continues to read as follows:

Authority: 7 U.S.C. 6912(a)(1); 5 U.S.C. 301; Reorganization Plan No. 2 of 1953, 3 CFR 1949-1953 Comp., p. 1024.

Subpart C—Delegations of Authority to the Deputy Secretary, the Under Secretaries, and Assistant Secretaries for Congressional Relations and Administration

2. Amend § 2.17 by adding a new paragraph (a)(30) to read as follows:

§ 2.17 Under Secretary for Rural Development.

(a) * * *

(30) Related to biomass research and development.

Administer section 9008 of FSRIA (7 U.S.C. 8108) with respect to biomass research and development, including administration of the Biomass Research and Development Board and Biomass Research and Development Technical Advisory Committee, and submission of reports to Congress, except for the authority delegated to the Under Secretary for REE in § 2.21(a)(1)(cci) to carry out the Biomass Research and Development Initiative; consult and coordinate, as appropriate, with the Under Secretary for REE and other mission areas within the Department as deemed necessary in carrying out the authorities delegated herein; and serve as the designated point of contact referenced in 7 U.S.C. 8108 for the Department, except for purposes of administering the Biomass Research and Development Initiative as provided in § 2.21(a)(1)(cci).

* * * * *

3. Amend § 2.21 by revising paragraph (a)(1)(cci) to read as follows:

§ 2.21 Under Secretary for Research, Education, and Economics.

(a) * * *

(1) * * *

(cci) Administer the Biomass Research and Development Initiative (7 U.S.C. 8108(e)); consult and coordinate, as appropriate, with the Under Secretary for RD and other mission areas of the Department as deemed necessary in carrying the authorities delegated herein; serve as the designated point of contact referenced in 7 U.S.C. 8108 for the Department for purposes of administering the Biomass Research and Development Initiative.

* * * * *

Subpart K—Delegations of Authority by the Under Secretary for Research, Education, and Economics

4. Amend § 2.66 by revising paragraph (a)(156) to read as follows:

§ 2.66 Director, National Institute of Food and Agriculture.

(a) * * *

(156) Administer the Biomass Research and Development Initiative (7 U.S.C. 8108(e)); consult and coordinate, as appropriate, with the Under Secretary for Rural Development and other mission areas of the Department as deemed necessary in carrying out the authorities delegated herein.

* * * * *

Signed in Washington, DC, on August 18, 2011.
Pearlie S. Reed,
Assistant Secretary of Agriculture for Administration.

[FR Doc. 2011-21597 Filed 8-23-11; 8:45 am]

BILLING CODE 3410-01-P